DEPARTMENT OF COMMERCE

National Oceanic and Atmospheric Administration

XRIN: 0648-XB39

New England Fishery Management Council; Public Meeting

AGENCY: National Marine Fisheries Service (NMFS), National Oceanic and Atmospheric Administration (NOAA), Commerce.

ACTION: Notice of a public meeting.

SUMMARY: The New England Fishery Management Council's (Council) Multispecies (Groundfish) Committee will meet to consider actions affecting New England fisheries in the exclusive economic zone (EEZ).

DATES: The meeting will be held on Wednesday, August 1, 2007, at 9 a.m.

ADDRESSES: The meeting will be held at the Holiday Inn, One Newbury Street, Peabody, MA 01960; telephone: (978) 535-4600.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

1. The Multispecies (Groundfish) Oversight Committee will continue development of Amendment 16 to the Northeast Multispecies Fishery Management Plan. Amendment 16 will adjust measures as necessary to continue the rebuilding of overfished groundfish stocks. At this meeting, the Committee will address sector management issues and they will discuss the recommendations of the Council's Sector Committee as well as specific sector proposals. The discussion will include, but not be limited to, developing alternatives for the baseline period to be used when allocating fishing opportunities to sectors, identifying stocks for which an allocation must be requested, providing allowances for non-sector fisheries (e.g. scallop dredge fishery, recreational fisheries, state waters fisheries, etc.), discussing discard monitoring requirements, and other issues related to sector management. If this discussion is completed, the Committee will review changes to the days-at-sea system for vessels that choose not to join a sector.

2. The Transboundary Management Guidance Committee will meet jointly with the Committee to receive reports of recent stock assessments for Eastern Georges Bank cod and haddock and Georges Bank yellowtail flounder.

3. Other business may also be discussed.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: July 9, 2007.
Tracey L. Thompson,
Acting Director, Office of Sustainable Fisheries, National Marine Fisheries Service.

[FR Doc. E7-13561 Filed 7-12-07; 8:45 am]

BILLING CODE 3510-22-S